CONSUMER PRODUCT SAFETY COMMISSION

Sunshine Act Meetings

TIME AND DATE: Wednesday, January 15, 2025—10:00 a.m. (See MATTERS TO BE CONSIDERED)

PLACE: Room 420, Bethesda Towers, 4330 East West Highway, Bethesda, MD.

STATUS: Commission Meeting—Open to the public (10:00 a.m.); Closed Meeting will follow immediately after conclusion of the public meeting.

MATTERS TO BE CONSIDERED:

Open Session

Briefing Matter on Notice of Proposed Rulemaking—Safety Standard for Lithium-Ion Batteries Micromobility Products

A live webcast of the meeting can be viewed at the following link: https://events.gcc.teams.microsoft.com/event/7ba35e5b-216d-40a2-b183-9f382a696b3e@7f5de26c-a63d-475c-9b6c-4126a914e132

Dial in by telephone: +1 469-676-2705, CODE,191380541#

Closed Session

Briefing Matter

CONTACT PERSON FOR MORE INFORMATION: Alberta E. Mills, Office of the Secretary, U.S. Consumer Product Safety Commission, 4330 East West Highway, Bethesda, MD 20814, 301-504-7479 (Office) or 240-863-8938 (Cell).

Dated: January 8, 2025
Alberta E. Mills,
Commission Secretary.

[FR Doc. 2025-00585 Filed 1-8-25; 11:15 am]

BILLING CODE 6355-01-P